CONSUMER PRODUCT SAFETY COMMISSION

[Docket No. CPSC-2010-0053]

Agency Information Collection Activities; Extension of Approval of Information Collection; Safety Standard for Multi-Purpose Lighters

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval of a collection of information regarding the Safety Standard for Multi-Purpose Lighters. OMB previously approved the collection of information under Control Number 3041-0130. OMB's most recent extension of approval will expire on January 31, 2024. On November 15, 2023, CPSC published a notice in the Federal Register to announce the agency's intention to seek extension of approval of the collection of information. The Commission received no comments. Therefore, by publication of this notice, the Commission announces that CPSC has submitted to the OMB a request for extension of approval of that collection of information.

DATES: Submit comments on the collection of information by February 26, 2024.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2010-0053.

FOR FURTHER INFORMATION CONTACT: Cynthia Gillham, Consumer Product Safety Commission, 4330 East West Highway, Bethesda, MD 20814; (301) 504-7791, or by email to: pra@cpsc.gov.

SUPPLEMENTARY INFORMATION: CPSC seeks to renew the following currently approved collection of information:

Title: Safety Standard for Multi-Purpose Lighters.

OMB Number: 3041-0130.

Type of Review: Renewal of collection.

Frequency of Response: On occasion.

Affected Public: Manufacturers and importers of multi-purpose lighters.

Estimated Number of Respondents: Based on five years of CPSC data, there are an estimated 47 firms that import, distribute, or sell multi-purpose lighters in the United States. Based on past experience, CPSC expects that firms will conduct recordkeeping and reporting activities for an average of two multi-purpose lighter models each year.

Estimated Time per Response: The costs associated with the rule include reporting, recordkeeping, and other certification-related activities. CPSC estimates that the burden per model is: 10 hours to generate test data, record it, and enter the data into a computerized dataset; five hours for annual review and removal of records; and five hours for responding to CPSC records requests—for a total of 20 hours per model.

Total Estimated Annual Burden: CPSC estimates that 47 firms will each conduct recordkeeping and reporting activities for an average of two models per year, and that a total of 20 hours will be required per model. As a result, CPSC estimates that the total annual burden of this collection is 1,880 hours. The annualized cost to respondents for the information collection is $63,318.40 (1,880 hours × $33.68/hour), as estimated from total compensation data available from the U.S. Bureau of Labor Statistics.¹

¹ Total hourly compensation for office and administrative support occupations in goods-producing industries is estimated by the U.S. Bureau of Labor Statistics to be $33.68: Employer Costs for Employee Compensation, March 2023, Table 4: (https://www.bls.gov/news.release/archives/ecec_06162023.pdf).

General Description of Collection: The Commission's safety standard for multi-purpose lighters (16 CFR part 1212) and section 14(a)(1) of the Consumer Product Safety Act require that manufacturers, including importers, of multi-purpose lighters issue certificates of compliance based on a reasonable testing program. The standard also requires manufacturers and importers to establish and maintain records to demonstrate successful completion of all required tests to support the certificates of compliance that they issue. Respondents must comply with these testing, certification, and recordkeeping requirements for multi-purpose lighters.

Alberta E. Mills,
Secretary, Consumer Product Safety Commission.

[FR Doc. 2024-01375 Filed 1-24-24; 8:45 am]

BILLING CODE 6355-01-P